DEPARTMENT OF STATE

[Public Notice: 12419]

Determination Pursuant to Section 2(b)(2) of the Migration and Refugee Assistance Act of 1962

Pursuant to section 2(b)(2) of the Migration and Refugee Assistance Act of 1962 (the Act) (22 U.S.C. 2601(b)(2)), Presidential Determination Number 99-6 of November 30, 1998, and Department of State Delegation 513, I hereby designate stateless persons in Cambodia, Chile, Ghana, the Kyrgyz Republic, North Macedonia, Poland, the People's Republic of China (including the Hong Kong Special Administrative Region and the Macau Special Administrative Region), South Sudan, Tanzania, and Vietnam as qualifying for assistance under section 2(b)(2) of the Act, and determine that such assistance will contribute to the foreign policy interests of the United States.

This determination shall be transmitted to the President and published in the Federal Register.

Dated: May 3, 2024.
Richard Verma,
Deputy Secretary of State for Management and Resources, Department of State.

[FR Doc. 2024-13280 Filed 6-14-24; 8:45 am]

BILLING CODE 4710-33-P